DEPARTMENT OF TRANSPORTATION

Federal Highway Administration

Notice of Final Federal Agency Actions on Proposed Highway in Indiana

AGENCY: Federal Highway Administration (FHWA), DOT.

ACTION: Notice of Limitation on Claims for Judicial Review of Actions by FHWA and United States Army Corps of Engineers (USACE), DoD.

SUMMARY: This notice announces actions taken by the FHWA and the USACE that are final within the meaning of 23 U.S.C. 139(l)(1). The actions relate to proposed highway projects for a 25.73 mile segment of I-69 in the Counties of Daviess and Greene, State of Indiana, and grant licenses, permits, and approvals for the project.

DATES: By this notice, the FHWA is advising the public of final agency actions subject to 23 U.S.C. 139(l)(1) and are final within the meaning of that law. A claim seeking judicial review of those Federal agency actions that are covered by this notice will be barred unless the claim is filed on or before May 25, 2011. If the Federal law that authorizes judicial review of a claim provides a time period of less than 180 days for filing such claim, then the shorter time period applies.

FOR FURTHER INFORMATION CONTACT: For the FHWA: Ms. Michelle Allen, Federal Highway Administration, Indiana Division, 575 North Pennsylvania Street, Room 254, Indianapolis, IN 46204-1576; telephone: (317) 226-7344; e-mail: Michelle.Allen@dot.gov. The FHWA Indiana Division Office's normal business hours are 7:30 a.m. to 4 p.m., e.t. For the USACE: Mr. Greg Mckay, Chief, North Section Regulatory Branch, Louisville District, United States Army Corps of Engineers, P.O. Box 59, Louisville, KY 40201-0059; telephone: (502) 315-6685; e-mail: gregory.a.mckay@usace.army.mil. Normal business hours are 8 a.m. to 5 p.m., e.t. You may also contact Mr. Thomas Seeman, Project Manager, Indiana Department of Transportation (INDOT), 100 North Senate Avenue, Indianapolis, IN 46204; telephone: (317) 232-5336; e-mail: TSeeman@indot.IN.gov. Normal business hours for the Indiana Department of Transportation are: 8 a.m. to 4:30 p.m., e.t.

SUPPLEMENTARY INFORMATION: On August 13, 2010, the FHWA published a “Notice of Final Federal Agency Actions on Proposed Highway in Indiana” in the Federal Register at (75 FR 49547) for the Section 3, 25.73 mile I-69 project in Daviess and Greene Counties. Notice is hereby given that, subsequent to the earlier FHWA notice, the USACE has taken final agency actions within the meaning of 23 U.S.C. 139(l)(1) by issuing permits and approvals for the highway project. The actions by the USACE, related final actions by other Federal agencies, and the laws under which such actions were taken, are described in the USACE decisions and its project records, referenced as Section 404 Water Quality Permit, Number LRL-2010-39-djd. That information is available by contacting the USACE at the address provided above.

As part of the Section 3 project, which begins at the terminus of the Section 2 project, there are six crossings of water resources requiring individual permits from the USACE, including streams, open water and emergent, scrub-shrub and forested wetlands. Subject to the permit conditions, INDOT is permitted to discharge fill material below the Ordinary Highway Water mark of 8,925 linear feet of Doan's Creek and intermittent and ephemeral tributaries of Eagan Ditch and Doan's Creek, and to discharge fill material into 4.64 acres of open water and emergent, scrub-shrub and forested wetlands adjacent to First Creek and Doan's Creek in constructing these crossings. In addition, in two letters dated January 20, 2010 and May 4, 2010, the USACE has authorized impacts at 32 other sites under their jurisdiction within Section 3 of the I-69 project in Daviess and Greene Counties via the Regional General Permit No. 1 issued jointly by the Louisville and Chicago Districts on December 15, 2009.

On January 7, 2010, INDOT filed an application with the USACE for authorization under Section 404 of the Clean Water Act, 33 U.S.C. 1344, to construct the 25.73 mile Section 3 I-69 project. On July 14, 2010, the USACE took final action in issuing the Section 404 Water Quality Permit for the Section 3 I-69 project, Number LRL-2010-39-djd, as described in the USACE decision and its administrative record for the project. A Notice of Limitation on Claims for Judicial Review of Actions by FHWA, United States Fish and Wildlife Service (USFWS), DOI, and USACE was published in the Federal Register on August 13, 2010 (75 FR 49547). On September 7, 2010, the USACE suspended the Section 404 Water Quality Permit, Number LRL-2010-39-djd, after a review of the permit file revealed that the procedural requirements of 33 CFR 327.4, the USACE regulation regarding public hearing determinations, had not been followed prior to issuance of the permit. On September 15, 2010, after ensuring that all necessary procedural requirements had been complied with, the USACE reinstated the Section 404 Water Quality Permit, Number LRL-2010-39-djd.

The actions by the Federal agencies on the project, and the laws under which such actions were taken, are described in the Section 404 Water Quality Permit and Regional General Permit letters, and in other documents in the FHWA administrative record for the project. The ROD and other documents from the FHWA administrative record files for the Section 3 project are available by contacting FHWA, USACE or INDOT at the addresses provided above. Project information may also be available through the INDOT I-69 Project Web site at http://www.i69indyevn.org/.

This notice applies to all USACE and other Federal agency final actions taken after the issuance date of the FHWA Federal Register notice described above. The laws under which actions were taken include, but are not limited to: 1. 1. National Environmental Policy Act (NEPA) [42 U.S.C. 4321-4351]. 2. Federal-Aid Highway Act [23 U.S.C. 109 and 23 U.S.C. 128]. 3. Clean Water Act, 33 U.S.C. 1251-1377 (Section 404, Section 402, Section 401, Section 319).

(Catalog of Federal Domestic Assistance Program Number 20.205, Highway Planning and Construction. The regulations implementing Executive Order 12372 regarding intergovernmental consultation on Federal programs and activities apply to this program.)

Authority: 23 U.S.C. 139(l)(1).

Issued on: November 19, 2010.
Robert F. Tally Jr.,
Division Administrator, Indianapolis, Indiana.

[FR Doc. 2010-29805 Filed 11-24-10; 8:45 am]

BILLING CODE P